DEPARTMENT OF ENERGY

Federal Energy Regulatory Commission

Combined Notice of Filings #2

Take notice that the Commission received the following exempt wholesale generator filings:

Docket Numbers: EG15-119-000.

Applicants: PHR Holdings LLC.

Description: Notice of Self-Certification of Exempt Wholesale Generator Status of PHR Holdings LLC.

Filed Date: 8/31/15.

Accession Number: 20150831-5256.

Comments Due: 5 p.m. ET 9/21/15.

Docket Numbers: EG15-120-000.

Applicants: Golden West Power Partners, LLC.

Description: Notice of Self-Certification of Exempt Wholesale Generator Status of Golden West Power Partners, LLC.

Filed Date: 8/31/15.

Accession Number: 20150831-5365.

Comments Due: 5 p.m. ET 9/21/15.

Take notice that the Commission received the following electric rate filings:

Docket Numbers: ER10-2719-022; ER10-2718-022; ER10-2633-020; ER10-2570-020; ER10-2717-020; ER10-3140-019; ER13-55-010.

Applicants: East Coast Power Linden Holding, L.L.C., Cogen Technologies Linden Venture, L.P., Birchwood Power Partners, L.P., Shady Hills Power Company, L.L.C., EFS Parlin Holdings, LLC, Inland Empire Energy Center, LLC, Homer City Generation, L.P.

Description: Notice of Non-Material Change in Status of the GE Companies.

Filed Date: 8/31/15.

Accession Number: 20150831-5264.

Comments Due: 5 p.m. ET 9/21/15.

Docket Numbers: ER15-704-004.

Applicants: Pacific Gas and Electric Company.

Description: Compliance filing: eTariff Migration Compliance Filing to Update Pending Records in CCSF WDT SA 275 to be effective 7/23/2015.

Filed Date: 8/31/15.

Accession Number: 20150831-5324.

Comments Due: 5 p.m. ET 9/21/15.

Docket Numbers: ER15-1120-001.

Applicants: Nevada Power Company.

Description: Report Filing: Service Agreement No. 14-00081 NPC and Aiya LGIA Refund Report to be effective N/A.

Filed Date: 8/31/15.

Accession Number: 20150831-5338.

Comments Due: 5 p.m. ET 9/21/15.

Docket Numbers: ER15-1121-001.

Applicants: Nevada Power Company.

Description: Report Filing: Service Agreement No. 12-00082 NPC and Moapa LGIA Refund Report to be effective N/A.

Filed Date: 8/31/15.

Accession Number: 20150831-5348.

Comments Due: 5 p.m. ET 9/21/15.

Docket Numbers: ER15-1122-001.

Applicants: Nevada Power Company.

Description: Report Filing: Service Agreement No. 12-00076 NPC and Playa Refund Report to be effective N/A.

Filed Date: 8/31/15.

Accession Number: 20150831-5350.

Comments Due: 5 p.m. ET 9/21/15.

Docket Numbers: ER15-1852-001.

Applicants: Tucson Electric Power Company.

Description: Compliance filing: Compliance Filing to be effective 11/2/2010.

Filed Date: 8/31/15.

Accession Number: 20150831-5241.

Comments Due: 5 p.m. ET 9/21/15

Docket Numbers: ER15-1865-001.

Applicants: Tucson Electric Power Company.

Description: Compliance filing: Compliance Filing to be effective 8/5/2015.

Filed Date: 8/31/15.

Accession Number: 20150831-5238.

Comments Due: 5 p.m. ET 9/21/15

Docket Numbers: ER15-2571-000.

Applicants: GenOn Energy Management, LLC.

Description: Section 205(d) Rate Filing: Proposed Rate Schedule FERC No. 1 to be effective 10/1/2015.

Filed Date: 8/31/15.

Accession Number: 20150831-5220.

Comments Due: 5 p.m. ET 9/21/15

Docket Numbers: ER15-2572-000.

Applicants: GenOn Energy Management, LLC.

Description: Section 205(d) Rate Filing: Proposed Rate Schedule FERC No. 2 to be effective 10/1/2015.

Filed Date: 8/31/15.

Accession Number: 20150831-5221.

Comments Due: 5 p.m. ET 9/21/15

Docket Numbers: ER15-2573-000.

Applicants: GenOn Energy Management, LLC.

Description: Section 205(d) Rate Filing: Proposed Rate Schedule FERC No. 3 to be effective 10/1/2015.

Filed Date: 8/31/15.

Accession Number: 20150831-5222.

Comments Due: 5 p.m. ET 9/21/15.

Docket Numbers: ER15-2574-000.

Applicants: PJM Interconnection, L.L.C.

Description: Section 205(d) Rate Filing: First Revised Interconnection Service Agreement No. 3476, Queue No. R11/Z2-109 to be effective 7/30/2015.

Filed Date: 8/31/15.

Accession Number: 20150831-5224.

Comments Due: 5 p.m. ET 9/21/15.

Docket Numbers: ER15-2575-000.

Applicants: Duke Energy Progress, LLC.

Description: Section 205(d) Rate Filing: Second Amended RS 200 FRPPA NCEMPA to be effective 8/1/2015.

Filed Date: 8/31/15.

Accession Number: 20150831-5266.

Comments Due: 5 p.m. ET 9/21/15.

Docket Numbers: ER15-2576-000.

Applicants: NorthWestern Corporation.

Description: Initial rate filing: SA 744—Firm Point-to-Point TSA with Energy Keepers Inc. to be effective 9/1/2015.

Filed Date: 8/31/15.

Accession Number: 20150831-5277.

Comments Due: 5 p.m. ET 9/21/15.

Docket Numbers: ER15-2577-000.

Applicants: The Connecticut Light and Power Company.

Description: Notice of Cancellation of Eversource Energy Service Company (as agent) for The Connecticut Light and Power Company.

Filed Date: 8/31/15.

Accession Number: 20150831-5279.

Comments Due: 5 p.m. ET 9/21/15.

Docket Numbers: ER15-2578-000.

Applicants: ISO New England Inc., Emera Maine.

Description: Section 205(d) Rate Filing: Emera Maine Revisions to Schedule 20A-EM to be effective 10/30/2015.

Filed Date: 8/31/15.

Accession Number: 20150831-5278.

Comments Due: 5 p.m. ET 9/21/15.

Docket Numbers: ER15-2579-000.

Applicants: Midcontinent Independent System Operator, Inc.

Description: Section 205(d) Rate Filing: 2015-08-31_SA 2632 AECI-Northeast Power-ITC Midwest Facilities Charge Template to be effective 9/1/2015.

Filed Date: 8/31/15.

Accession Number: 20150831-5290.

Comments Due: 5 p.m. ET 9/21/15.

Docket Numbers: ER15-2580-000.

Applicants: Western Massachusetts Electric Company.

Description: Notice of Cancellation of Eversource Energy Service Company (as agent) for Western Massachusetts Electric Company.

Filed Date: 8/31/15.

Accession Number: 20150831-5293.

Comments Due: 5 p.m. ET 9/21/15.

Docket Numbers: ER15-2581-000.

Applicants: PJM Interconnection, L.L.C.

Description: Section 205(d) Rate Filing: Second Revised Service Agreement No. 3665; Queue No. AA1-084 to be effective 7/31/2015.

Filed Date: 8/31/15.

Accession Number: 20150831-5325.

Comments Due: 5 p.m. ET 9/21/15.

Docket Numbers: ER15-2582-000.

Applicants: Carousel Wind Farm, LLC.

Description: Baseline eTariff Filing: Carousel Wind Farm, LLC Application for MBR Authority to be effective 10/30/2015.

Filed Date: 8/31/15.

Accession Number: 20150831-5327.

Comments Due: 5 p.m. ET 9/21/15.

Take notice that the Commission received the following electric securities filings:

Docket Numbers: ES15-39-000; ES15-49-00; ES15-50-000; ES15-51-000; ES15-52-000; ES15-53-000; ES15-54-000; ES15-55-000; ES15-56-000; ES15-57-000.

Applicants: AEP Generating Company, AEP Texas North Company, AEP Texas Central Company, Appalachian Power Company, Indiana Michigan Power Company, Kentucky Power Company, Kingsport Power Company, Public Service Company of Oklahoma, Southwestern Electric Power Company, Wheeling Power Company.

Description: Amendment and Restatement of the July 24, 2015 Application Under Section 204 of the Federal Power Act for Authorization to Issue Securities of AEP Generating Company, et al.

Filed Date: 8/31/15.

Accession Number: 20150831-5244.

Comments Due: 5 p.m. ET 9/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2015.
Nathaniel J. Davis, Sr.,
Deputy Secretary.

[FR Doc. 2015-23530 Filed 9-18-15; 8:45 am]

BILLING CODE 6717-01-P